DEPARTMENT OF LABOR

Employment and Training Administration

[TA-W-54,293]

Dexter Shoe Company Dexter Plant, Dexter ME; Notice of Termination of Investigation

Pursuant to section 221 of the Trade Act of 1974, an investigation was initiated on February 18, 2004 in response to a worker petition which was filed by a State agency representative on behalf of workers at Dexter Shoe Company, Dexter Plant, Dexter, Maine (TA-W-54,293).

The petitioner has requested that the petition be withdrawn. Consequently, further investigation in this case would serve no purpose, and the investigation has been terminated.

Signed in Washington, DC, this 2nd day of March, 2004.
Linda G. Poole,
Certifying Officer, Division of Trade Adjustment Assistance.

[FR Doc. E4-587 Filed 3-15-04; 8:45 am]

BILLING CODE 4510-13-P